DEPARTMENT OF THE TREASURY

President's Commission on the United States Postal Service

AGENCY: Department of the Treasury, Departmental Offices.

ACTION: Notice of meeting.

SUMMARY: Notice is given of a meeting of the President's Commission on the United States Postal Service.

DATES: The meeting will be held on Wednesday, January 8, 2003, from 8:30 a.m. to 12 noon.

ADDRESSES: The meeting will be held at The Hotel Washington, 15th Street and Pennsylvania Avenue, NW., Washington, DC 20004.

FOR FURTHER INFORMATION CONTACT: Roger Kodat, Designated Federal Official, 202-622-7073.

SUPPLEMENTARY INFORMATION: The Commission has invited representatives of the Department of the Treasury and the United States Postal Service to testify. Seating is limited to 300 people.

Dated: December 19, 2002.
Roger Kodat,
Designated Federal Official.

[FR Doc. 02-32465 Filed 12-23-02; 8:45 am]

BILLING CODE 4811-16-P